DEPARTMENT OF AGRICULTURE

Forest Service

Information Collection: Assessing Technology Transfer Activities of the National Center for Reforestation, Nurseries, & Genetics Resources

AGENCY: Forest Service, USDA.

ACTION: Notice of intent to conduct assessment of technology transfer activities by the National Center for Reforestation, Nursery, and Genetic Resources.

SUMMARY: In accordance with the Paperwork Reduction Act of 1995, the Forest Service is seeking comments from all interested individuals and organizations on the new information collection, Assessing Technology Transfer Activities of the National Center for Reforestation, Nurseries, & Genetics Resources. The United States Department of Agriculture (USDA), United States Forest Service (Forest Service), National Center for Reforestation, Nursery, and Genetic Resources (RNGR) supports the production of native plant materials for reforestation and restoration activities throughout the Nation and its insular areas. RNGR transfers important, science-based information to the managers of Federal, State, Tribal, other government entities, and private nurseries and farms.

DATES: Comments must be received in writing on or before December 8, 2020 to be assured of consideration. Comments received after that date will be considered to the extent practicable.

ADDRESSES: Comments concerning this notice should be addressed to Kasten Dumroese, USDA Forest Service, Rocky Mountain Research Station, 1221 South Main Street, Moscow, ID 83843.

Comments also may be submitted via facsimile to 208-883-2318 or by email to: kas.dumroese@usda.gov.

The public may inspect comments received at 1221 South Main Street, Moscow, ID 83843 during normal business hours. Visitors are encouraged to call ahead to 208-882-3557 to facilitate entry to the building.

FOR FURTHER INFORMATION CONTACT: Kasten Dumroese, USDA Forest Service, Rocky Mountain Research Station, kas.dumroese@usda.gov or 208-883-2324. Individuals who use telecommunication devices for the deaf (TDD) may call the Federal Relay Service (FRS) at 1-800-877-8339 twenty-four hours a day, every day of the year, including holidays.

SUPPLEMENTARY INFORMATION:

Title: Assessing Technology Transfer Activities of the National Center for Reforestation, Nurseries, & Genetics Resources.

OMB Number: 0596-NEW.

Type of Request: NEW.

Abstract:

Purpose and Need for Action

The Social and Economic Sciences Research Center (SESRC) at Washington State University will collaborate with RNGR to assess the current and future needs for information technology and services via a survey of nurseries and farms that produce native plant materials for reforestation and restoration throughout the U.S. This assessment will help RNGR better understand how these managers are using RNGR's current products and if information can be shared more effectively and efficiently through new tools and techniques.

The United States Department of Agriculture, Forest Service, National Center for Reforestation, Nursery, and Genetic Resources (RNGR) supports the production of native plant materials for reforestation and restoration activities throughout the Nation and its insular areas. RNGR transfers important, science-based information through on-site visits, regional meetings, webinars, website, books, and newsletters to the managers of Federal, State, Tribal, other government entities, and private nurseries and farms that produce native plant materials for reforestation and restoration.

Because of the rapid changes in technology and the ways communication now occurs, RNGR seeks to better understand how these managers are using RNGR's current products and if information can be shared more effectively and efficiently through new tools and techniques. In addition, RNGR desires to focus technology transfer on issues pertinent to the managers' emerging needs.

The Washington State University, Social and Economic Sciences Research Center will design a survey and collect information through a mail and web survey of the approximately 1,200 managers of Federal, State, Tribal, other government entities, and private nurseries and farms that produce native plant materials for reforestation and restoration. Information collected will include the name and address of the nursery, whether it is primarily for reforestation or restoration, what current RNGR products and tools the managers use and how effective are those products and tools, and what new technologies and approaches to transferring information might better serve managers. The Social and Economic Sciences Research Center will ensure survey validity and analyze and synthesize the information so that RNGR can implement the findings.

If the survey is not completed, RNGR may continue to use less effective and efficient methods to share science-based information with the managers Federal, State, Tribal, other government entities, and private nurseries and farms that produce native plant materials for reforestation and restoration. The goal of this survey is to implement more cost-effective methods of technology transfer delivered to managers in the best format for them.

Proposed Action

The assessment will utilize survey methods. Survey data will be collected using two modes: (1) electronic (via web) and (2) mail delivered paper questionnaire. All 1,200 users of RNGR resources will be contacted with the following protocols:

• The first mailing will be mailed using first class postage and will include a letter of invitation to complete the survey online with URL, access code;

• Email reminders to participants (those with email addresses) will be sent approximately one week after the invitation letter. Multiple email reminders may be sent (3 days in between email waves). Email messages will be sent to one respondent at a time to minimize spam filter effect. Email messages will come from an@wsu.edu email address, which will be “white listed;”

• The questionnaire is approximately 8 pages, printed on 2 sheets of 11x17 paper folded in half. A unique ID (access code) will be printed on the questionnaire for tracking purpose. There will be 2 separate questionnaires for the (1) user and (2) non-user groups;

• Questionnaires will be mailed in 6x9 envelopes with first class postage and will include a personalized letter (containing a URL and access code for online option) and a business reply return envelope and personalized letter;

• Reminder/thank you post cards or letters will be mailed 7 to 10 days after the questionnaire mailing; and

• In addition, we will also attempt to contact organizations in the lists via telephone to identify the appropriate individuals to contact with regards to the survey. The phone attempts will be conducted after mailing of the paper questionnaire and will reach out to the remaining non-respondents. These phone attempts will serve as an additional reminder to complete the survey.

Follow-Up Semi-Structured Interview

For those who did not respond to the survey, especially those in the non-user group, we will conduct a follow up semi-structured interview via phone with audio recording. The interview will serve two main purposes (1) to determine the reason for not responding to the survey, and (2) to gather more in-depth information about unmet needs or reasons for not using RNGR support services that may or may not be addressed in the quantitative survey.

For those who responded to the survey, some of the responses may warrant further investigation, such as new ideas or issues that were not included in the survey questions. Each interview will take approximately 30 to 45 minutes to complete and will be conducted after the survey data collection period is concluded. Data collected via the above methods will be summarized and analyzed in a technical report. The information will be used to refine the strategic plan for RNGR.

Responsible Official

The responsible official will be Kasten Dumroese, USDA Forest Service, Rocky Mountain Research Station, 1221 South Main Street, Moscow, ID 83843.

Nature of Decision To Be Made

Given the purpose and need, the responsible official will determine whether the proposed actions comply with all applicable laws governing Forest Service actions and whether the proposed action meets the purpose and need for action. With this information, the responsible official must decide whether to select the proposed action or one of any other potential alternatives that may be developed, and what, if any, additional actions should be required.

Scoping Process

This notice of intent initiates the scoping process, which guides the development of the assessment questionnaire and survey protocols. Public comments regarding this proposal are requested in order to assist in identifying issues and opportunities associated with the information collection protocols.

Comments are invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Affected Public: Managers of Federal, State, Tribal, other government entities, and private nurseries and farms that produce native plant materials for reforestation and restoration.

Estimate of Burden per Response: 20 minutes.

Estimated Annual Number of Respondents: 1,200.

Estimated Annual Number of Responses per Respondent: One.

Estimated Total Annual Burden on Respondents: 400 hours.

Comment is Invited: All comments received in response to this notice, including names and addresses when provided, will be a matter of public record. Comments will be summarized and included in the submission request toward Office of Management and Budget approval.

Steven W. Koehn,
Director, Cooperative Forestry, State and Private Forestry.

[FR Doc. 2020-22396 Filed 10-8-20; 8:45 am]

BILLING CODE 3411-15-P